DEPARTMENT OF TRANSPORTATION

Federal Aviation Administration

14 CFR Part 97

[Docket No. 31325 Amdt. No. 3917]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 20, 2020. The compliance date for each SIAP, associated Takeoff Minimums, and ODP is specified in the amendatory provisions.

The incorporation by reference of certain publications listed in the regulations is approved by the Director of the Federal Register as of August 20, 2020.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866;(2) is not a “significant rule” under DOT Regulatory Policies and Procedures (44 FR 11034; February 26,1979); and (3)does not warrant preparation of a regulatory evaluation as the anticipated impact is so minimal.

For the same reason, the FAA certifies that this amendment will not have a significant economic impact on a substantial number of small entities under the criteria of the Regulatory Flexibility Act.

List of Subjects in 14 CFR Part 97:

Air Traffic Control, Airports, Incorporation by reference, Navigation (Air).

Issued in Washington, DC, on August 7, 2020.
Wade E.K. Terrell,
Manager, Flight Procedures & Airspace Group.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 10 September 2020

Aniak, AK, Aniak, Takeoff Minimums and Obstacle DP, Amdt 4

Bethel, AK, Bethel, ILS Y OR LOC Y RWY 19R, Orig-E

Bethel, AK, Bethel, ILS Z OR LOC Z RWY 19R, Amdt 7G

Bethel, AK, Bethel, RNAV (GPS) RWY 1R, Amdt 1A

Bethel, AK, Bethel, VOR RWY 1L, Amdt 2D

Cold Bay, AK, Cold Bay, ILS OR LOC RWY 15, Amdt 19

Cold Bay, AK, Cold Bay, LOC BC RWY 33, Amdt 11

Cold Bay, AK, Cold Bay, RNAV (GPS) RWY 15, Amdt 3

Cold Bay, AK, Cold Bay, RNAV (GPS) RWY 33, Amdt 3

Cold Bay, AK, Cold Bay, Takeoff Minimums and Obstacle DP, Amdt 9

Dillingham, AK, Dillingham, RNAV (GPS) RWY 1, Amdt 3

Mekoryuk, AK, Mekoryuk, NDB-B, Orig, CANCELLED

Mekoryuk, AK, Mekoryuk, NDB/DME-A, Amdt 4, CANCELLED

Evergreen, AL, Evergreen Rgnl/Middleton Field, RNAV (GPS) RWY 10, Amdt 1D

Guntersville, AL, Guntersville Muni—Joe Starnes Field, RNAV (GPS) RWY 7, Orig-B

Guntersville, AL, Guntersville Muni—Joe Starnes Field, RNAV (GPS) RWY 25, Orig-A

Huntsville, AR, Huntsville Muni, VOR/DME RWY 12, Amdt 2A, CANCELLED

Rogers, AR, Rogers Muni-Carter Field, VOR RWY 2. Amdt 13E, CANCELLED

Grass Valley, CA, Nevada County, VOR OR GPS-A, Amdt 1C, CANCELLED

Hemet, CA, Hemet-Ryan, RNAV (GPS) RWY 5, Orig-D

San Jose, CA, Reid-Hillview Of Santa Clara County, RNAV (GPS) RWY 13L, Amdt 1

San Jose, CA, Reid-Hillview Of Santa Clara County, RNAV (GPS) Y RWY 31R, Amdt 1

San Jose, CA, Reid-Hillview Of Santa Clara County, RNAV (GPS) Z RWY 31R, Amdt 2

St Petersburg-Clearwater, FL, St Pete-Clearwater Intl, ILS OR LOC RWY 18, ILS RWY 18 (SA CAT I), ILS RWY 18 (SA CAT II), Orig-A

Webster City, IA, Webster City Muni, NDB RWY 32, Amdt 8A, CANCELLED

Boise, ID, Boise Air Terminal/Gowen Fld, RNAV (RNP) Z RWY 28L, Amdt 2

Boise, ID, Boise Air Terminal/Gowen Fld, RNAV (RNP) Z RWY 28R, Amdt 2

Kankakee, IL, Greater Kankakee, ILS OR LOC RWY 4, Amdt 8

Kankakee, IL, Greater Kankakee, RNAV (GPS) RWY 4, Amdt 2

Kankakee, IL, Greater Kankakee, RNAV (GPS) RWY 16, Amdt 1B

Kankakee, IL, Greater Kankakee, RNAV (GPS) RWY 22, Amdt 1B

Kankakee, IL, Greater Kankakee, RNAV (GPS) RWY 34, Amdt 1B

Lincoln, IL, Logan County, NDB RWY 21, Amdt 2A, CANCELLED

Brazil, IN, Brazil Clay County, VOR RWY 9, Amdt 7B. CANCELLED

Cambridge, MD, Cambridge-Dorchester Rgnl, RNAV (GPS)-A, Orig-A

Augusta, ME, Augusta State, RNAV (GPS) RWY 35, Orig-C

Bay City, MI, James Clements Muni, VOR-A, Amdt 12B, CANCELLED

Cassville, MO, Cassville Muni, VOR RWY 9, Amdt 2B, CANCELLED

Eldon, MO, Eldon Model Airpark, Takeoff Minimums and Obstacle DP, Orig-B

Binghamton, NY, Greater Binghamton/Edwin A Link Field, ILS OR LOC RWY 16, Amdt 7

Binghamton, NY, Greater Binghamton/Edwin A Link Field, ILS OR LOC RWY 34, Amdt 5

Binghamton, NY, Greater Binghamton/Edwin A Link Field, RNAV (GPS) RWY 10, Amdt 1

Binghamton, NY, Greater Binghamton/Edwin A Link Field, RNAV (GPS) RWY 16, Amdt 2

Binghamton, NY, Greater Binghamton/Edwin A Link Field, RNAV (GPS) RWY 28, Amdt 3

Southampton, NY, Southampton, COPTER RNAV (GPS) 190, Orig-B

East Liverpool, OH, Columbiana County, VOR RWY 25, Amdt 5, CANCELLED

Tulsa, OK, Tulsa Intl, ILS OR LOC RWY 36R, ILS RWY 36R (SA CAT I), ILS RWY 36R (CAT II), Amdt 29H

Bradford, PA, Bradford Rgnl, ILS OR LOC RWY 32, Amdt 13

Nacogdoches, TX, Nacogdoches A L Mangham Jr Rgnl, NDB RWY 18, Amdt 1C, CANCELLED

Richmond, VA, Richmond Intl, ILS OR LOC RWY 2, Amdt 2C

Richmond, VA, Richmond Intl, VOR RWY 20, Amdt 1D

Bennington, VT, William H. Morse State, VOR RWY 13, Amdt 1B, CANCELLED

Springfield, VT, Hartness State (Springfield), Takeoff Minimums and Obstacle DP, Amdt 3A

Charleston, WV, Yeager, ILS OR LOC RWY 23, Amdt 31A

Powell, WY, Powell Muni, NDB RWY 31, Amdt 2C, CANCELLED

Rescinded: On July 13, 2020 (85 FR 41912), the FAA published an Amendment in Docket No. 31319 Amdt No. 3911, to Part 97 of the Federal Aviation Regulations under sections 97.37. The following entry for Jaffrey, NH effective September 10, 2020, is hereby rescinded in its entirety:

Jaffrey, NH, Jaffrey Airfield-Silver Ranch, Takeoff Minimums and Obstacle DP, Amdt 1A

Rescinded: On August 6, 2020 (85 FR 47643), the FAA published an Amendment in Docket No. 31323 Amdt No. 3915, to Part 97 of the Federal Aviation Regulations under sections 97.29, and 97.33. The following entries for El Paso, TX effective September 10, 2020, are hereby rescinded in their entirety:

El Paso, TX, El Paso Intl, ILS OR LOC RWY 22, Amdt 32E

El Paso, TX, El Paso Intl, RNAV (GPS) Y RWY 22, Orig-F

El Paso, TX, El Paso Intl, RNAV (RNP) Z RWY 22, Amdt 1B

[FR Doc. 2020-17732 Filed 8-19-20; 8:45 am]

BILLING CODE 4910-13-P